DEPARTMENT OF ENERGY

10 CFR Part 430

[Docket No. EERE-2010-BT-DET-0040]

RIN 1904-AC52

Energy Conservation Program for Consumer Products and Certain Commercial and Industrial Equipment: Proposed Determination of Set-Top Boxes and Network Equipment as a Covered Consumer Product

AGENCY: Office of Energy Efficiency and Renewable Energy, Department of Energy.

ACTION: Notice of extension of public comment period.

SUMMARY: This document announces that the period for submitting comments on the proposed determination for set-top boxes and network equipment is extended to September 30, 2011.

DATES: DOE will accept comments, data, and information regarding the proposed determination for set-top boxes and network equipment published June 15, 2011 (76 FR 34914) received no later than 5 p.m. on September 30, 2011.

ADDRESSES: Any comments submitted must identify the proposed determination for set-top boxes and network equipment and provide docket number EERE-2010-BT-DET-0040 and/or RIN number 1904-AC52. Comments may be submitted using any of the following methods:

• Federal eRulemaking Portal: http://www.regulations.gov. Follow the instructions for submitting comments.

• E-mail: Brenda.Edwards@ee.doe.gov. Include docket number EERE-2010-BT-DET-0040 and/or RIN 1904-AC52 in the subject line of the message. Submit electronic comments in WordPerfect, Microsoft Word, PDF, or ASCII file format and avoid the use of special characters or any form of encryption.

• Postal Mail: Ms. Brenda Edwards, U.S. Department of Energy, Building Technologies Program, Mailstop EE-2J, 1000 Independence Avenue, SW., Washington, DC 20585-0121. Telephone: (202) 586-2945. Please submit one signed original paper copy.

• Hand Delivery/Courier: Ms. Brenda Edwards, U.S. Department of Energy, Building Technologies Program, 950 L'Enfant Plaza, SW., 6th Floor, Washington, DC 20024. Please submit one signed original paper copy.

Docket: For access to the docket to read background documents or comments received, visit the U.S. Department of Energy, Resource Room of the Building Technologies Program, 950 L'Enfant Plaza, SW., 6th Floor, Washington, DC 20024, (202) 586-2945, between 9 a.m. and 4 p.m. Monday through Friday, except Federal holidays. Please call Ms. Brenda Edwards at the above telephone number for additional information regarding visiting the Resource Room. Please note: DOE's Freedom of Information Reading Room (Room 1E-190 at the Forrestal Building) no longer houses rulemaking materials.

FOR FURTHER INFORMATION CONTACT: Mr. Wes Anderson, U.S. Department of Energy, Office of Energy Efficiency and Renewable Energy, Building Technologies Program, EE-2J, 1000 Independence Avenue, SW., Washington, DC 20585-0121. Telephone: (202) 586-7335. E-mail: Wes.Anderson@ee.doe.gov.

In the Office of General Counsel, contact Ms. Elizabeth Kohl, U.S. Department of Energy, Office of the General Counsel, GC-71, 1000 Independence Avenue, SW., Washington, DC 20585. Telephone: (202) 586-7796. E-mail: Elizabeth.Kohl@hq.doe.gov.

SUPPLEMENTARY INFORMATION: On June 15, 2011, DOE published a notice of proposed determination (NOPD) in the Federal Register (76 FR 34914) to determine that set top boxes and network equipment meet the criteria for classification as a covered product under the Energy Policy and Conservation Act, as amended (EPCA, 42 U.S.C. 6291, et seq.). The NOPD provided for the submission of comments by July 15, 2011. Interested parties requested an extension of the comment period. One commenter stated that it represented over 2000 companies who manufacture set top boxes and similar products, as well as component suppliers and service providers for such products. This commenter stated that it had commissioned a revision of its 2007 energy use study examining power consumption data and trends for set-top boxes and other consumer electronics. The commenter indicated that the data in this study, due in late August 2011, would be helpful to DOE in determining how to proceed with its proposed determination, and that the study would also be helpful informing the comments submitted by the commenter on the proposal. Another commenter requested an extension of time to develop its comments, stating that additional time would allow them to provide better quality comments to DOE. DOE has determined that an extension of the public comment period is appropriate based on the foregoing reasons and is hereby extending the comment period. DOE will consider any comments received by 5 p.m. on September 30, 2011 and deems any comments received between July 15, 2011 and 5 p.m. on September 30, 2011 to be timely submitted.

Further Information on Submitting Comments

Under 10 CFR Part 1004.11, any person submitting information that he or she believes to be confidential and exempt by law from public disclosure should submit two copies: One copy of the document including all the information believed to be confidential, and one copy of the document with the information believed to be confidential deleted. DOE will make its own determination about the confidential status of the information and treat it according to its determination.

Factors of interest to DOE when evaluating requests to treat submitted information as confidential include (1) a description of the items, (2) whether and why such items are customarily treated as confidential within the industry, (3) whether the information is generally known by or available from other sources, (4) whether the information has previously been made available to others without obligation concerning its confidentiality, (5) an explanation of the competitive injury to the submitting person which would result from public disclosure, (6) when such information might lose its confidential character due to the passage of time, and (7) why disclosure of the information would be contrary to the public interest.

Issued in Washington, DC on July 5, 2011.
Kathleen B. Hogan,
Deputy Assistant Secretary for Energy Efficiency, Office of Technology Development, Energy Efficiency and Renewable Energy.

[FR Doc. 2011-17215 Filed 7-7-11; 8:45 am]

BILLING CODE 6450-01-P